DEPARTMENT OF HOMELAND SECURITY

National Communications System

[Docket No. NCS-2006-0008]

National Security Telecommunications Advisory Committee

AGENCY: National Communications System, DHS.

ACTION: Notice of advisory committee meetings.

SUMMARY: The President's National Security Telecommunications Advisory Committee (NSTAC) schedule of 2007 meetings.

DATES: By teleconference on Tuesday, January 16, 2007 from 11 a.m. to 12 p.m. Also by teleconference on Thursdays; March 29, June 14, and September 27, 2007, from 2 p.m. until 3 p.m. In person on Thursday, April 26, 2007, from 9 a.m. until 3:30 p.m.

ADDRESSES: For access to the January 16, 2007, conference bridge and meeting materials, contact Mr. William Fuller at (703) 235-5521, or by e-mail at William.C.Fuller@dhs.gov by 5 p.m. on Friday, January 12, 2007. If you desire to submit comments pertaining to the January 16, 2007, meeting, they must be submitted by January 9, 2007. If you desire to submit comments for subsequent 2007 meetings, they may be submitted following the publication of specific meeting details in the Federal Register. Comments for the January 16, 2007, meeting must be identified by docket number NCS-2006-0008 and may be submitted by one of the following methods:

• Federal eRulemaking Portal: http://www.regulations.gov. Follow the instructions for submitting comments.

• E-mail: NSTAC1@dhs.gov. Include docket number in the subject line of the message.

• Mail: Office of the Manager, National Communications System (N5), Department of Homeland Security, Washington, DC 20529.

• Fax: 866-466-5370

Instructions: All submissions received must include the words “Department of Homeland Security” and NCS-2006-0008, the docket number for this action. Comments received will be posted without alteration at www.regulations.gov, including any personal information provided.

Docket: For access to the docket to read background documents or comments received by the NSTAC, go to http://www.regulations.gov.

FOR FURTHER INFORMATION CONTACT: Ms. Kiesha Gebreyes, Chief, Industry Operations Branch at (703) 235-5525, e-mail: Kiesha.Gebreyes@dhs.gov or write the Deputy Manager, National Communications System, Department of Homeland Security, CS&T/NCS/N5.

SUPPLEMENTARY INFORMATION: The NSTAC advises the President on issues and problems related to implementing national security and emergency preparedness telecommunications policy. Notice of these meetings is given under the Federal Advisory Committee Act (FACA), Pub. L. 92-463, as amended (5 U.S.C. App.).

At the January 16, 2007, meeting, the NSTAC members will receive comments from their DHS stakeholders related to National Security/Emergency Preparedness communications issues. The committee will also discuss and vote on the NSTAC's Emergency Communications and Interoperability Task Force Report, and discuss the work of the International Task Force.

The 2007 NSTAC work plan focuses on National Security/Emergency Preparedness communications issues related to emergency communications and interoperability, influenza pandemic planning, telecommunications and electric power interdependency, the National Coordinating Center, the legislative and regulatory landscape, and international concerns. For meetings subsequent to January 16, 2007; meeting agendas, meeting details, and information regarding arrangements for persons with disabilities will be published no later than 15 calendar days before the meeting.

Persons with disabilities who require special assistance for the January 16, 2007, meeting should indicate this when arranging access to the teleconference and are encouraged to identify anticipated special needs as early as possible.

Dated: December 20, 2006.
Peter M. Fonash,
Deputy Manager National Communications System.

[FR Doc. E6-22330 Filed 12-28-06; 8:45 am]

BILLING CODE 4410-10-P